INTERNATIONAL TRADE COMMISSION

[Investigation Nos. 701-TA-583 and 731-TA-1381 (Final)]

Cast Iron Soil Pipe Fittings From China

Determinations

On the basis of the record ¹ developed in the subject investigations, the United States International Trade Commission (“Commission”) determines, pursuant to the Tariff Act of 1930 (“the Act”), that an industry in the United States is materially injured by reason of imports of cast iron soil pipe fittings, excluding drain bodies, from China, provided for in subheading 7307.11.00 of the Harmonized Tariff Schedule of the United States, that have been found by the U.S. Department of Commerce (“Commerce”) to be sold in the United States at less than fair value (“LTFV”) and to be subsidized by the government of China.² The Commission also determines that an industry in the United States is not materially injured or threatened with material injury by reason of imports of drain bodies from China that are sold in the United States at LTFV and subsidized by the government of China.

¹ The record is defined in sec. 207.2(f) of the Commission's Rules of Practice and Procedure (19 CFR 207.2(f)).

² The Commission also finds that imports subject to Commerce's affirmative critical circumstances determination are not likely to undermine seriously the remedial effect of the countervailing and antidumping duty orders on cast iron soil pipe fittings from China.

Background

The Commission, pursuant to sections 705(b) and 735(b) of the Act (19 U.S.C. 1671d(b) and 19 U.S.C. 1673d(b)), instituted these investigations effective July 13, 2017, following receipt of a petition filed with the Commission and Commerce by the Cast Iron Soil Pipe Institute, Mundelein, Illinois. The final phase of the investigations was scheduled by the Commission following notification of preliminary determinations by Commerce that imports of cast iron soil pipe fittings from China were subsidized within the meaning of section 703(b) of the Act (19 U.S.C. 1671b(b)) and sold at LTFV within the meaning of 733(b) of the Act (19 U.S.C. 1673b(b)).

Notice of the scheduling of the final phase of the Commission's investigations and of a public hearing to be held in connection therewith was given by posting copies of the notice in the Office of the Secretary, U.S. International Trade Commission, Washington, DC, and by publishing the notice in the Federal Register on March 19, 2018 (83 FR 12024). The hearing was held in Washington, DC, on June 26, 2018, and all persons who requested the opportunity were permitted to appear in person or by counsel.

The Commission made these determinations pursuant to sections 705(b) and 735(b) of the Act (19 U.S.C. 1671d(b) and 19 U.S.C. 1673d(b)). It completed and filed its determinations in these investigations on August 22, 2018. The views of the Commission are contained in USITC Publication 4812 (August 2018), entitled Cast Iron Soil Pipe Fittings from China: Investigation Nos. 701-TA-583 and 731-TA-1381 (Final).

By order of the Commission.
Issued: August 22, 2018.
Lisa Barton,
Secretary to the Commission.

[FR Doc. 2018-18563 Filed 8-27-18; 8:45 am]

BILLING CODE 7020-02-P